DEPARTMENT OF DEFENSE

Department of the Air Force

[Docket ID: USAF-2010-0019]

Privacy Act of 1974; System of Records

AGENCY: Department of the Air Force, DoD.

ACTION: Notice to alter a system of records.

SUMMARY: The Department of the Air Force is proposing to alter a system of records notice in its existing inventory of records systems subject to the Privacy Act of 1974, (5 U.S.C. 552a), as amended.

DATES: The proposed action will be effective on August 9, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Charles Shedrick, (703) 696-6488.

SUPPLEMENTARY INFORMATION: The Department of the Air Force systems of records notices subject to the Privacy Act of 1974, (5 U.S.C. 552a), as amended, have been published in the Federal Register and are available from the address above.

The proposed system report, as required by 5 U.S.C. 552a(r) of the Privacy Act of 1974, as amended, was submitted on June 28, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: July 6, 2010.
Mitchell S. Bryman,
Alternate OSD Federal Register Liaison Officer, Department of Defense.

F031 AFMC C

System name:

Automated Installation Entry Control System/Visitor Center Enrollment System (May 7, 2010; 75 FR 25219).

Changes:

* * * * *

System name:

Delete entry and replace with “Automated Installation Entry Control System/Visitor Center Records.”

System location:

Add to entry as last paragraph “Defense Information Systems Agency (DISA) Mega Center, Building 857, 401 E. Drive, Maxwell Air Force Base-Gunter Annex, AL 36114-3001; security forces units at all levels can access the system.”

* * * * *

Categories of records in the system:

Delete entry and replace with “Badge and vehicle control records that at a minimum include; name, Social Security Number (SSN), Electronic Data Interchange Personal Identifier (EDIPI), home address, telephone number, citizenship, grade or rank, date of birth, place of birth, gender, employment information, military address, license plate number, drivers license number, vehicle make, model, year, color, drivers identification credential barcode data, individual photos, and suspension, revocation, and debarment status.”

* * * * *

Retention and disposal:

Delete entry and replace with “Registers or logs used to record names of outside contractors, service personnel, visitors, employees admitted to areas, and reports on automobiles and passengers.

For areas under maximum security: Destroy 5 years after final entry or 5 years after date of document, as appropriate.

For other areas: Destroy 2 years after final entry or 2 years after date of document, as appropriate.”

* * * * *

F031 AFMC C

System name:

Automated Installation Entry Control System/Visitor Center Records

System location:

Barnes Air National Guard Base, 104th Security Forces Squadron Attn: AIECS POC, 175 Falcon Drive, Building 31, Barnes ANGB, Westfield, MA 01085-1482.

MacDill Air Force Base, 6th Security Forces Squadron, Attn: AIECS POC, 2505 SOCOM Memorial Hwy., Building 203, MacDill AFB, FL 33621-1011.

Test Site C-3, Eglin Air Force Base, 46th Range Support Squadron (RANSS), Attn: AIECS POC, 308 West D Avenue, Suite 203, Eglin AFB, FL 32542-5418.

Defense Information Systems Agency (DISA) Mega Center, Building 857, 401 E. Drive, Maxwell Air Force Base-Gunter Annex, AL 36114-3001; security forces units at all levels can access the system.

Categories of individuals covered by the system:

Active Duty, National Guard, and Reserve Personnel; government employees, contractors, retirees, dependents, visitors, and foreign personnel assigned to military installations.

Categories of records in the system:

Badge and vehicle control records that at a minimum include; name, Social Security Number (SSN), Electronic Data Interchange Personal Identifier (EDIPI), home address, telephone number, citizenship, grade or rank, date of birth, place of birth, gender, employment information, military address, license plate number, drivers license number, vehicle make, model, year, color, drivers identification credential barcode data, individual photos, and suspension, revocation, and debarment status.

Authority for maintenance of the system:

10 U.S.C. 8013, Secretary of the Air Force, Powers and Duties; Department of Defense 5200.08-R Physical Security Program; Department of Defense Air Force Instruction (AFI) 31-203, Security Forces Management Information System (SFMIS); and Directive Type Memorandum 09-012, Interim Policy Guidance for DoD Physical Access Control; and E.O. 9397 (SSN), as amended.

Purpose(s):

The Automated Installation Entry Control System (AIECS) is a law enforcement tool designed to be installed at military installation vehicle entry gates. The system scans information off of DoD issued credentials and system-produced visitor passes presented to a lane-side barcode scanner in order to enhance security and vehicle throughput. To support the physical security and access control programs; to record personal data and vehicle information; to provide a record of security/access badges issued; to restrict entry to installations and activities; to ensure positive identification of personnel authorized access to restricted areas; to maintain accountability for issuance and disposition of security/access badges and for producing installation management reports.

Routine uses of records maintained in the system including categories of users and the purposes of such use:

In addition to those disclosures generally permitted under 5 U.S.C. 552A(b) of the Privacy Act of 1974, these records contained therein may be specifically disclosed outside the Department of Defense as a routine use pursuant to 5 U.S.C. 552a(b)(3) as follows:

The DoD `Blanket Routine Uses' published at the beginning of the Air Force's compilation of systems of records notices apply to this system.

Policies and practices for storing, retrieving, accessing, retaining, and disposing of records in the system:

Storage:

Electronic storage media.

Retrievability:

Data is retrieved by querying a drivers name, Social Security Number (SSN), Electronic Data Interchange Personal Identifier (EDIPI), or driver's identification credential barcode.

Safeguards:

Records are accessed by persons responsible for servicing the system in performance of their official duties. Individuals are properly screened and cleared for need-to-know. Records are stored in locked cabinets, locked rooms, or buildings with controlled entry. Computer records are controlled by computer system software.

Retention and disposal:

Registers or logs used to record names of outside contractors, service personnel, visitors, employees admitted to areas, and reports on automobiles and passengers.

For areas under maximum security: Destroy 5 years after final entry or 5 years after date of document, as appropriate.

For other areas: Destroy 2 years after final entry or 2 years after date of document, as appropriate.

System manager(s) and address:

AIECS Program Manager, 642d ELSS, 642d Electronic Systems Squadron, 45 Arnold St., Bldg. 1600, Hanscom AFB, MA 01731-1600.

Notification procedures:

Individuals seeking to determine whether information about themselves is contained in this system of records should address inquiries to their local Base Security Forces office listed below.

Requests must contain full name, Social Security Number (SSN), and current mailing address.

Barnes Air National Guard Base, 104th Security Forces Squadron Attn: AIECS POC, 175 Falcon Drive, Building 31, Barnes ANGB, Westfield, MA 01085-1482.

MacDill Air Force Base, 6th Security Forces Squadron, Attn: AIECS POC, 2505 SOCOM Memorial Hwy., Building 203, MacDill AFB, FL 33621-1011.

Test Site C-3, Eglin Air Force Base, 46th Range Support Squadron (RANSS), Attn: AIECS POC, 308 West D Avenue, Suite 203, Eglin AFB, FL 32542-5418.

Defense Information Systems Agency (DISA) Mega Center, Building 857, 401 E. Drive, Maxwell Air Force Base-Gunter Annex, AL 36114-3001; security forces units at all levels can access the system.

Record access procedures:

Individuals seeking to access to information about themselves contained in this system of records should address written inquiries to their local Base Security Forces office listed below.

Requests must contain full name, Social Security Number (SSN), and current mailing address.

Barnes Air National Guard Base, 104th Security Forces Squadron, Attn: AIECS POC, 175 Falcon Drive, Building 31, Barnes ANGB, Westfield, MA 01085-1482.

MacDill Air Force Base, 6th Security Forces Squadron, Attn: AIECS POC, 2505 SOCOM Memorial Hwy., Building 203, MacDill AFB, FL 33621-1011.

Test Site C-3, Eglin Air Force Base, 46th Range Support Squadron (RANSS), Attn: AIECS POC, 308 West D Avenue, Suite 203, Eglin AFB, FL 32542-5418.

Defense Information Systems Agency (DISA) Mega Center, Building 857, 401 E. Drive, Maxwell Air Force Base-Gunter Annex, AL 36114-3001; security forces units at all levels can access the system.

Contesting record procedures:

The Air Force rules for accessing records, and for contesting contents and appealing initial agency determinations are published in Air Force Instruction 33-332; Code of Federal Regulations part 806b; or may be obtained from the system manager.

Record source categories:

Information obtained from individuals and from Defense Enrollment Eligibility Reporting System (DEERS) and Security Forces Management Information System (SFMIS).

Exemptions claimed for the system:

None.

[FR Doc. 2010-16793 Filed 7-8-10; 8:45 am]

BILLING CODE 5001-06-P